DEPARTMENT OF THE INTERIOR

National Park Service

[NPS-WASO-NAGPRA-NPS0036647; PPWOCRADN0-PCU00RP14.R50000]

Notice of Inventory Completion: Detroit Institute of Arts, Detroit, MI

AGENCY: National Park Service, Interior.

ACTION: Notice.

SUMMARY: In accordance with the Native American Graves Protection and Repatriation Act (NAGPRA), the Detroit Institute of Arts has completed an inventory of associated funerary objects and has determined that there is a cultural affiliation between the associated funerary objects and Indian Tribes or Native Hawaiian organizations in this notice. The associated funerary objects were removed from Emmet County, MI.

DATES: Repatriation of the associated funerary objects in this notice may occur on or after October 30, 2023.

ADDRESSES: Denene De Quintal Ph.D., Detroit Institute of Arts, 5200 Woodward Avenue, Detroit, MI 48202, telephone (313) 578-1067, email NAGPRA@dia.org.

SUPPLEMENTARY INFORMATION: This notice is published as part of the National Park Service's administrative responsibilities under NAGPRA. The determinations in this notice are the sole responsibility of the Detroit Institute of Arts. The National Park Service is not responsible for the determinations in this notice. Additional information on the determinations in this notice, including the results of consultation, can be found in the inventory or related records held by the Detroit Institute of Arts.

Description

Possibly in the 1920s, a grave marker was removed from the St. Ignatius Church, in Emmet County, MI. Subsequently, Alfred Heath sold the grave marker to Milford G. Chandler (1889-1981), who later sold it to Richard A. Pohrt (1911-2005) of Flint, Michigan. On April 21, 1981, the Detroit Institute of Arts purchased it from Richard A. Pohrt. The grave marker may be associated with the Kenoshaneg Family. The one associated funerary object is this grave marker (81.586).

In the late 19th century, an effigy figure was removed from Cross Village, in Emmet County, MI. John Ojibway, who relocated from the St. Ignace area to Cross Village, Michigan, obtained the effigy figure. The figure passed through the Ojibway family before eventually coming into the possession of the Frank Francis family of Cross Village. Subsequently, in 1968, Richard A. Pohrt purchased the effigy figure. In 1981, the Detroit Institute of Arts purchased the figure from Mr. Pohrt. The one associated funerary object is this effigy figure (81.67).

Cultural Affiliation

The associated funerary objects in this notice are connected to one or more identifiable earlier groups, tribes, peoples, or cultures. There is a relationship of shared group identity between the identifiable earlier groups, tribes, peoples, or cultures and one or more Indian Tribes or Native Hawaiian organizations. The following type of information was used to reasonably trace the relationship: historical.

Determinations

Pursuant to NAGPRA and its implementing regulations, and after consultation with the appropriate Indian Tribes and Native Hawaiian organizations, the Detroit Institute of Arts has determined that:

• The two objects described in this notice were made exclusively for burial purposes.

• There is a relationship of shared group identity that can be reasonably traced between the associated funerary objects described in this notice and the Little Traverse Bay Bands of Odawa Indians, Michigan.

Requests for Repatriation

Written requests for repatriation of the associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the associated funerary objects in this notice to a requestor may occur on or after October 30, 2023. If competing requests for repatriation are received, the Detroit Institute of Arts must determine the most appropriate requestor prior to repatriation. Requests for joint repatriation of the associated funerary objects are considered a single request and not competing requests. The Detroit Institute of Arts is responsible for sending a copy of this notice to the Indian Tribe identified in this notice.

Authority: Native American Graves Protection and Repatriation Act, 25 U.S.C. 3003, and the implementing regulations, 43 CFR 10.9, § 10.10, and § 10.14.

Dated: September 20, 2023.
Melanie O'Brien,
Manager, National NAGPRA Program.

[FR Doc. 2023-21244 Filed 9-27-23; 8:45 am]

BILLING CODE 4312-52-P